DEPARTMENT OF AGRICULTURE

Forest Service

36 CFR Part 219

RIN 0596-AB86

National Forest System Land and Resource Management Planning

AGENCY: Forest Service, USDA.

ACTION: Final rule.

SUMMARY: The Department of Agriculture (the Department) is issuing this final rule to comply with a June 30, 2009, Federal District Court order that has the effect of reinstating the National Forest System Land and Resource Management Planning Rule of November 9, 2000, as amended (2000 rule). This action announces the court's decision and takes the ministerial (formal) action of reinstating the rule in the Code of Federal Regulations. This action also makes technical amendments to that rule, including the interpretative rules issued in 2001 and 2004, to update transition provisions that will be in effect until a new planning rule is issued, as announced elsewhere in today's Federal Register.

DATES: Effective Date: This rule is effective December 18, 2009.

ADDRESSES: You can send a written request for more information to the Director, Ecosystem Management Coordination Staff, Forest Service, USDA, Mail Stop 1104, 1400 Independence Avenue, SW., Washington, DC 20250-1104. For more information, including an electronic copy of the 2000 rule and amendments see http://www.fs.fed.us/emc/nfma/2000_planning_rule.html.

FOR FURTHER INFORMATION CONTACT: Ecosystem Management Coordination staff's Assistant Director for Planning Ric Rine at (202) 205-1022 or Planning Specialist Regis Terney at (202) 205-1552.

SUPPLEMENTARY INFORMATION:

Background

The 2000 National Forest System Land and Resource Management Planning Rule as amended (2000 rule) is available online at http://www.fs.fed.us/emc/nfma/2000_planning_rule.html. See also final rule at 65 FR 67568 (Nov. 9, 2000); amendments at 67 FR 35434 (May 20, 2002); 68 FR 53297 (Sept. 10, 2003); and interpretative rules at 66 FR 1865 (Jan. 10, 2001) and 69 FR 58057 (Sept. 29, 2004). Although this rule is now in effect as a consequence of a court injunction, it is not found in the most recent version of the Code of Federal Regulations (CFR). This final rule reinstates the rule in the Code of Federal Regulations. In addition, the Department is making several technical amendments to the final rule.

Reinstating the 2000 Rule

The Forest and Rangeland Renewable Resources Planning Act of 1974 (88 Stat. 476 et seq.), as amended by the National Forest Management Act of 1976 (NFMA) (90 Stat. 2949 et seq.; 16 U.S.C. 1601-1614), requires the Secretary of Agriculture (the Secretary) to issue regulations under the principles of the Multiple-Use Sustained-Yield Act of 1960 (MUSYA) that set up the process for the development and revision of land management plans (16 U.S.C. 1604(g)).

The first planning rule, adopted in 1979, was amended on September 30, 1982 (47 FR 43037) (1982 rule). The 1982 rule was itself amended, in part, on June 24, 1983 (48 FR 29122) and on September 7, 1983 (48 FR 40383). The 1982 rule, as amended, has guided the development, amendment, and revision of all the land management plans currently in effect throughout the National Forest System (NFS).

The Department has undertaken rulemaking several times to revise the planning rule provisions. The Forest Service published an advance notice of proposed rulemaking on February 15, 1991 (56 FR 6508) for possible revisions to the 1982 rule. The Forest Service published a proposed rule on April 13, 1995 (60 FR 18886); however, the Secretary chose not to continue with that proposal. Another proposed rule was published on October 5, 1999 (64 FR 54074), and the 2000 rule was issued on November 9, 2000 (65 FR 67514). Shortly after the issuance of the 2000 rule, a review of the rule found that it would be unworkable. The Department proposed a new planning rule on December 6, 2002 (67 FR 72770).

In the meantime, on February 16, 2001, a coalition of twelve environmental groups sued the Department in Federal District Court to challenge the validity of the 2000 rule. The district court did not rule on the merits of plaintiffs' claims. Instead, the plaintiffs stipulated to a dismissal shortly after the Department issued a new planning rule to take the place of the 2000 rule (Citizens for Better Forestry v. USDA, No. 01-0728 (N.D. Cal. March 7, 2005) (Stipulation and Order dismissing case with prejudice)).

The 2005 rule, intended to replace the 2000 rule, was issued on January 5, 2005 (70 FR 1055). Shortly thereafter, Citizens for Better Forestry and others challenged it in Federal District Court. On March 30, 2007, the United States District Court for the Northern District of California enjoined the Department from further carrying out the 2005 rule pending additional steps to comply with the court's opinion with respect to the Administrative Procedure Act (APA), the Endangered Species Act (ESA), and the National Environmental Policy Act (NEPA) (Citizens for Better Forestry v. USDA, 481 F. Supp. 2d 1059 (N.D. Cal. 2007)). The effect of the injunction against the 2005 rule was to reinstate the 2000 rule (the rule previously in effect).

To respond to the district court's injunction of the 2005 rule, the Forest Service proposed a new planning rule. A notice of intent to prepare an environmental impact statement (EIS) was published in the Federal Register on May 11, 2007 (72 FR 26775) with a public comment period ending June 11, 2007. The proposed rule was published on August 23, 2007 (72 FR 48514), and the notice of availability for the supporting draft EIS was published in the Federal Register on August 31, 2007 (72 FR 50368). The notice of availability of the final EIS was published in the Federal Register on February 15, 2008 (73 FR 8869) and the final rule was issued and published in the Federal Register on April 21, 2008 (73 FR 21468). Citizens for Better Forestry and others promptly challenged the 2008 rule in court.

On June 30, 2009, the United States District Court for the Northern District of California invalidated the Forest Service's 2008 rule, holding that it was developed in violation of NEPA and ESA. The district court vacated the 2008 rule, enjoined the USDA from further implementing it and remanded it to the USDA for further proceedings (Citizens for Better Forestry v. USDA, 632 F. Supp. 2d 968 (N.D. Cal. 2009)). The court stated that, although the effect of invalidating an agency rule is to reinstate the rule previously in force, the Agency may choose whether to reinstate the 2000 rule or the 1982 rule. (See court decision available online at http://www.fs.fed.us/emc/nfma/index.htm.)

The district court's order allowing the Forest Service to choose either the 2000 rule or the 1982 rule did not eliminate the responsibility to follow appropriate procedures involved in making that choice. Under established legal principles, in circumstances like those here, the 2000 rule was immediately back in effect, without any process: “The effect of invalidating an agency rule is to reinstate the rule previously in effect,” Paulsen v. Daniels, 413 F. 3d 999, 1008 (9th Cir. 2005). A return to the 1982 rule, however, would require the entire lengthy process of notice and comment rulemaking, which includes issuing a proposed rule for public review and comment before issuing a final rule. Re-issuing the 1982 rule is unnecessary because the transition provision of the 2000 rule will allow the Forest Service to use the provisions of the 1982 rule in revising and amending plans until a new rule is issued. Furthermore, because the Department has announced that a new rulemaking is in order, as announced elsewhere in today's Federal Register, to re-issue the 1982 rule for an interim time period would be a costly and time-consuming distraction.

Therefore, the Department has determined that the 2000 rule, as amended in 2002 and 2003 and as clarified by interpretative rules issued in 2001 and 2004, is now in effect, and should be reinstated in the Code of Federal Regulations.

Technical Amendments

The 2000 rule included provisions for an orderly transition from planning under the prior, 1982 rule (36 CFR 219.35). The Forest Service expects that until the Department issues a new rule, responsible officials will continue to take advantage of the 2000 rule's transition provisions to amend or revise plans. See Forest Service memorandum of July 15, 2009, signed by Joel Holtrop, Deputy Chief for National Forest System. The memorandum is available online at http://www.fs.fed.us/emc/nfma/2000_planning_rule.html.

However, the time frames described in the transition provisions are out of date. Therefore, the Department has decided to update the wording of the 2000 rule's transition provisions to provide that the transition will extend until a new planning rule is issued. In addition, unnecessary wording is deleted in the transition section and interpretative rules issued in 2001 and 2004 and the reference in the 2001 interpretative rule to the optional appeal procedures is being corrected.

Need To Update Transition Provisions With Respect to Plan Revisions and Amendments

36 CFR 219.35(a). The Department is not changing paragraph (a) of section 219.35, but acknowledges that a definitive interpretation is in order. Paragraph (a) provides that the transition period ends upon completion of the revision process for each unit of the NFS, and that during that period the responsible official must consider the best available science in implementing and, if appropriate, amending the current plan. The Tenth Circuit Court of Appeals has interpreted this paragraph to mean that the transition period for each unit of the NFS ends upon a plan revision developed and completed under provisions of the 1982 rule, as well as revisions completed in accordance with the 2000 rule process (Utah Environmental Congress v. Troyer, 479 F. 3d 1269 (10th Cir. 2007)). The court held that as a consequence, paragraph (a)'s requirement that the best available science be considered in amending and implementing current plans “encompass[ed] only plans that pre-dated the 2000 planning rules,” 479 F. 3d at 1281. Under this reasoning, the requirement to consider the best available science would not apply on a forest that completed revision after the issuance of the 2000 rule even if the 1982 rule provisions were used for the revision.

The Department's position is that the purpose of section 219.35(a) has always been, and continues to be, that the transition period for each forest ends upon the completion of the revision using the process of the 2000 rule. That intent is made evident by the cross-reference in paragraph (a) to section 219.9, the revision section of the 2000 rule. If a forest plan has not been revised using the 2000 rule process, the transition periods of sections 219.35(b) and (d) apply. Furthermore, on a unit where the plan has not been revised under the 2000 rule process, there must be consideration of the best available science when making project decisions or amending the plan. The reference in the paragraph to “the current plan” simply means the plan in effect during transition, prior to plan revision using the 2000 rule process.

36 CFR 219.35(b). The transition provision at 219.35(b) originally provided that planning initiated under the 1982 rule prior to November 9, 2000, the date the 2000 rule was issued, may continue under the provisions of that rule, instead of adjusting to the requirements of the 2000 rule (65 FR 67579 (Nov. 9, 2000)). However, shortly after the 2000 rule was issued, the Department determined that it was unworkable and announced the intent to issue a new rule in the December 3, 2001, Semiannual Unified Agenda of Federal Regulatory and Deregulatory Actions. So that planning need not comply with the requirements of the 2000 rule, the Department extended the rule's transition period until the issuance of the new rule, and allowed the responsible official to elect, not only to continue, but also to initiate, plan amendments or revisions under the provisions of the 1982 rule.

The Department extended the transition provisions in paragraph (b) twice; the most recent extension, issued as an interim final rule on May 20, 2002, provides that the plan amendment or revision process may be continued or initiated under the provisions of the 1982 planning regulations under certain circumstances. The interim final rule said use of the transition provisions can continue “[u]ntil the Department promulgates the revised final planning regulations announced in the December 3, 2001, Semiannual Unified Agenda of Federal Regulatory and Deregulatory Actions” at 219.35(b) 67 FR 35434 (May 20, 2002). This transition provision also explained what was meant by initiation of a plan amendment or revision.

Because paragraph (b) refers to the rulemaking process that resulted in the 2005 rule, which the district court held invalid, the Department is updating this paragraph to clarify that the transition will extend until the issuance of a rule replacing the current 2000 rule. The notice of intent to prepare an EIS for a new rule appears elsewhere in today's Federal Register. The Department is also deleting the unnecessary explanation regarding initiation of plan amendment or revision.

Simply put, the changes to paragraph (b) ensure that, until a new planning rule is issued, responsible officials may continue to revise or amend land management plans under either the 1982 rule provisions or the 2000 rule provisions.

Need To Update the Time Frame for Projects' Conformance to the 2000 Rule

36 CFR 219.35(d). The 2000 rule includes project-specific provisions, and, at 219.35(d), set November 9, 2003, as the deadline for compliance with those provisions at 65 FR 67579 (November 9, 2000). On September 10, 2003, the Department extended this transition period “until the Department promulgates the final planning regulations published as proposed on December 6, 2002 (67 FR 72770,” by amending the wording of 36 CFR 219.35(d) at 68 FR 53297 (Sept. 10, 2003). Because this provision refers to the rulemaking process that resulted in the 2005 rule, which was held invalid, the Department is updating 36 CFR 219.35(d) to clarify that the transition will extend until the issuance of a rule superseding the current 2000 rule.

Therefore, until the Department issues a new planning rule, the transition wording of the 2000 rule exempts project and activity decisions from the rule's project-specific requirements. As provided in paragraph (a), during the transition the responsible official must consider the best available science when developing and carrying out projects.

Note that 36 CFR 219.35(g) says that within 1 year of November 9, 2000, the Chief of the Forest Service must establish a schedule for completion of the revision process for each unit of the National Forest System. The Chief established the schedule, and the Chiefs schedule is now available online at http://www.fs.fed.us/emc/nfma/includes/LRMPschedule.pdf.

Need To Correct the 2001 Interpretative Rule With Respect to the Administrative Review Procedures and Delete Unnecessary Wording

36 CFR 219.35 Appendix A. On January 10, 2001 (66 FR 1864), the Department published a interpretative rule related to 36 CFR 219.35(b) to make explicit its intent that a responsible official's option of using the provisions of the 1982 rule included the further option of providing an administrative appeal opportunity, in accordance with 36 CFR part 217, in effect before the 2000 rule was issued, or the objection opportunity set out in the 2000 rule. This interpretative rule was published as Appendix A to Section 219.35, “Interpretive Rule Related to Paragraph 219.35(b)” to explain how section 219.32 (regarding objections) and section 219.35(b) (a transition provision) operate together.

This interpretative rule cites “36 CFR part 217” twice. However, citing 36 CFR part 217 is not appropriate because that part no longer exists and has not been codified in the CFR since 2000, and refers to the July 1, 2000, revision of the CFR that is out of date. This reference is likely to confuse the public. Therefore, the Department is correcting Appendix A to Section 219.35 of the 2000 rule.

In the place of 36 CFR part 217 the corrected interpretative rule identifies these procedures as the “optional appeal procedures available during the planning rule transition period” and references the Federal Register notices that had established the procedures formerly codified at 36 CFR part 217. The “optional appeal procedures available during the planning rule transition period,” are 54 FR 3357 (January 23, 1989), as amended at 54 FR 13807 (April 5, 1989); 54 FR 34509 (August 21, 1989); 55 FR 7895 (March 6, 1990); 56 FR 4918 (February 6, 1991); 56 FR 46550 (September 13, 1991); and 58 FR 58915 (November 4, 1993). The “optional appeal procedures available during the planning rule transition period,” are available at http://www.fs.fed.us/emc/applit/includes/PlanAppealProceduresDuringTransition.pdf.

The interpretative rule also explained what was meant by initiation of a plan amendment or revision; the Department is deleting this unnecessary provision.

The effect of these changes is simply that responsible officials can continue to choose either the appeals process for plan revisions or the objections process for plan revisions established in the 2000 rule.

Need To Delete Unnecessary Wording in 2004 Interpretative Rule

36 CFR 219.35 Appendix B. On September 29, 2004, the Department published an interpretative rule related to 36 CFR 219.35(a) and (b), to clarify the intent of the transition provisions in those paragraphs. The Department published the interpretative rule as “Appendix B to Section 219.35, Interpretative Rule Related to Paragraphs 219.35(a) and (b)” (69 FR 58057). In explaining the duration of the transition, the interpretative rule included two sentences that referred to the proposed rule published on December 6, 2002, and stated that a final rule had yet to be issued. The Department is deleting these unnecessary sentences.

Good Cause Statement

The Department has determined, pursuant to 5 U.S.C. 553(b), that prior notice and opportunity for public comment on this rulemaking are “impractical, unnecessary, and contrary to the public interest.” This rulemaking is undertaken to reinstate in the Code of Federal Regulations the planning rule now in effect and to update and clarify the transition time periods set out in that rule. This rulemaking also identifies the optional appeal process available during the transition.

As explained earlier in this notice, the 2000 rule is currently in effect. The reinstatement of the entire 2000 rule in the Code of Federal Regulations, therefore, is simply a housekeeping matter, to make the rule readily available to the public.

Notice and comment opportunities for the transition updates in paragraphs (b) and (d) are unnecessary, as they simply reflect the Department's long held intent, evidenced by the 2001, 2002, and 2003 extensions and the 2004 interpretative rule, to allow the continued use of the 1982 planning rule provisions until a successful rulemaking to replace the 2000 rule is accomplished. Additionally, the deletion in paragraph (b) of the explanation of “initiation” of plan amendments or revisions does not in any way change the effect of the rule. Furthermore, notice and comment rulemaking for this planning rule is impractical and against the public interest, as it would distract the Department's and the public's attention from the more pressing task at hand: to develop, through notice and comment rulemaking, a new, replacement planning rule. Notice and comment rulemaking to reinstate the 2000 rule would delay the issuance of a new rule. It is also likely that the confusion caused by two simultaneous notice and comment rulemakings for planning would not be in the public interest. With respect to the interpretative rules, good cause is not needed to exempt them from the notice and comment requirements of the Administrative Procedure Act. In any event, the minor changes to the interpretative rules do not affect the Department's interpretation of the 2000 rule.

This rulemaking merely continues the status quo for forest planning by updating 36 CFR Part 219 to reflect the fact that the 2008 rule has been held invalid and the 2000 rule is therefore in place until new planning regulations are issued.

Regulatory Certifications

Under Executive Order 12866 (58 FR 51735, October 4, 1993), this action is not a “significant regulatory action” and is, therefore, not subject to review by the Office of Management and Budget. Because the Agency has made a “good cause” finding that this action is not subject to notice-and-comment requirements under the Administrative Procedure Act or any other statute, it is not subject to the regulatory flexibility provisions of the Regulatory Flexibility Act (5 U.S.C. 601, et seq.), or to sections 202 and 205 of the Unfunded Mandates Reform Act of 1995 (UMRA) (Pub. L. 104-4). This rule also is not subject to Executive Order 13045 (62 FR 19885, April 23, 1997) because it is not economically significant.

In addition, this action does not significantly or uniquely affect small governments or impose a significant intergovernmental mandate, as described in sections 203 and 204 of Unfunded Mandates Reform Act of 1995. This rule also does not significantly or uniquely affect the communities of tribal governments, as specified by Executive Order 13175 (65 FR 67249, November 6, 2000). This rule will not have substantial direct effects on the states, on the relationship between the national government and the states, or on the distribution of power and responsibilities among the various levels of government, as specified in Executive Order 13132 (64 FR 43255, August 10, 1999).

The rule also does not involve special consideration of environmental justice related issues as required by Executive Order 12898 (59 FR 7629, February 16, 1994).

This rule has been analyzed in accordance with the principles and criteria contained in Executive Order 12630, and it has been determined that the rule does not pose the risk of a taking of constitutionally protected private property.

In accordance with the Paperwork Reduction Act of 1995 (44 U.S.C. 3501 et seq.), the information collection or reporting requirements included in the rule have been approved by the Office of Management and Budget (OMB) and assigned control number 0596-0158.

This rule has been reviewed under Executive Order 12988, Civil Justice Reform. As adopted, (1) All state and local laws and regulations that are in conflict with this rule or which would impede its full implementation are to be preempted; (2) No retroactive effect is given to this rule; and (3) It does not require administrative proceedings before parties may file suit in court challenging its provisions. Several respondents commented about the Federal Government's authority to preempt state and local laws. The Department has carefully reviewed this language and finds that this is entirely consistent with the legal responsibilities of the Federal Government.

The Department's compliance with these statutes and Executive orders for the rule is discussed in the November 9, 2000, Federal Register notice.

List of Subjects in 36 CFR Part 219

Administrative practice and procedure, Environmental impact statements, Indians, Intergovernmental relations, National forests, Reporting and recordkeeping requirements, Science and technology.

Therefore, for the reasons set forth in the preamble, part 219 of title 36 of the Code of Federal Regulations is revised to read as follows:

PART 219—PLANNING

Subpart A—National Forest System Land and Resource Management Planning
Purpose and Principles
Sec.
219.1 Purpose.
219.2 Principles.
The Framework for Planning
219.3 Overview.
219.4 Identification and consideration of issues.
219.5 Information development and interpretation.
219.6 Proposed actions.
219.7 Plan decisions.
219.8 Amendment.
219.9 Revision.
219.10 Site-specific decisions.
219.11 Monitoring and evaluation for adaptive management.
Collaborative Planning for Sustainability
219.12 Collaboration and cooperatively developed landscape goals.
219.13 Coordination among Federal agencies.
219.14 Involvement of State and local governments.
219.15 Interaction with American Indian tribes and Alaska Natives.
219.16 Relationships with interested individuals and organizations.
219.17 Interaction with private landowners.
219.18 Role of advisory committees.
Ecological, Social, and Economic Sustainability
219.19 Ecological, social, and economic sustainability.
219.20 Ecological sustainability.
219.21 Social and economic sustainability.
The Contribution of Science
219.22 The overall role of science in planning.
219.23 The role of science in assessments, analyses, and monitoring.
219.24 Science consistency evaluations.
219.25 Science advisory boards.
Special Considerations
219.26 Identifying and designating suitable uses.
219.27 Special designations.
219.28 Determination of land suitable for timber harvest.
219.29 Limitation on timber harvest.
Planning Documentation
219.30 Plan documentation.
219.31 Maintenance of the plan and planning records.
Objections and Appeals
219.32 Objections to amendments or revisions.
219.33 Appeals of site-specific decisions.
Applicability and Transition
219.34 Applicability.
219.35 Transition.
Definitions
219.36 Definitions.
Subpart B [Reserved]
Authority: 5 U.S.C. 301; and Secs. 6 and 15, 90 Stat. 2949, 2952, 2958 (16 U.S.C. 1604, 1613).

Subpart A—National Forest System Land and Resource Management Planning

Purpose and Principles

§ 219.1 Purpose.

(a) Land and resource management planning guides how the Forest Service will fulfill its stewardship of the natural resources of the National Forest System to fulfill the designated purposes of the national forests and grasslands and honor their unique place in American life. The regulations in this subpart set forth a process for amending and revising land and resource management plans, hereafter referred to as plans, for the National Forest System and for monitoring the results of plan implementation under the Forest and Rangeland Renewable Resources Act of 1974, as amended by the National Forest Management Act of 1976, 16 U.S.C. 1600 et seq. The regulations in this subpart also guide the selection and implementation of site-specific actions. The principal authorities governing the development and the management of the National Forest System include: The Organic Administration Act of 1897, as amended (16 U.S.C. 473 et seq.); the Multiple-Use Sustained-Yield Act of 1960 (16 U.S.C. 528 et seq.); the Wilderness Act (16 U.S.C. 1121 et seq.); the National Environmental Policy Act of 1969 (42 U.S.C. 4321 et seq.); the Endangered Species Act of 1973, as amended (16 U.S.C. 1531 et seq.); the Forest and Rangeland Renewable Resource Act of 1974, as amended by the National Forest Management Act of 1976 (16 U.S.C. 1600 et seq.); and the Clean Water Act of 1948, as amended by the Federal Water Pollution Control Act Amendments of 1977 and the Water Quality Act of 1987 and other laws (33 U.S.C. 1251 et seq., 1323 et seq.).

(b) The National Forest System constitutes an extraordinary national legacy created by people of vision and preserved for future generations by diligent and far-sighted public servants and citizens. These are the peoples' lands, emblems of the nation's democratic traditions.

(1) The national forests and grasslands provide a wide variety of uses, values, products, and services that are important to many people, including outdoor recreation, forage, timber, wildlife and fish, biological diversity, productive soils, clean air and water, and minerals. They also afford intangible benefits such as beauty, inspiration, and wonder.

(2) To assure the continuation of this array of benefits, this regulation affirms sustainability as the overall goal for stewardship of the natural resources of each national forest and grassland consistent with the laws that guide management of these lands.

(3) Sustainability, composed of interdependent ecological, social, and economic elements, embodies the principles of multiple-use and sustained-yield without impairment to the productivity of the land. Sustainability means meeting needs of the present generation without compromising the ability of future generations to meet their needs. Planning contributes to social and economic sustainability without compromising the basic composition, structure, and functioning of ecological systems. The progress toward achievement of sustainability is assessed through monitoring and evaluation.

§ 219.2 Principles.

The planning regulations in this subpart are based on the following principles:

(a) The first priority for planning to guide management of the National Forest System is to maintain or restore ecological sustainability of national forests and grasslands to provide for a wide variety of uses, values, products, and services. The benefits sought from these lands depend upon long-term ecological sustainability. Considering increased human uses, it is essential that uses of today do not impair the functioning of ecological processes and the ability of these natural resources to contribute to sustainability in the future.

(1) Planning provides the guidance for maintaining or restoring the diversity of plant and animal communities and the productive capacity of ecological systems, the core elements of ecological sustainability.

(2) Planning is based on science and other knowledge, including the use of scientifically based strategies for sustainability and benefits from independent scientific peer review.

(3) Planning is based on the temporal and spatial scales necessary for sustainability.

(4) Planning includes the monitoring and evaluation of the achievement of goals.

(b) Planning contributes to social and economic sustainability by providing for a wide variety of uses, values, products, and services without compromising the basic composition, structure, and function of ecological systems.

(1) Planning recognizes and fosters a broad-based understanding of the interdependence of national forests and grasslands with economies and communities.

(2) Planning fosters strategies and actions that provide for human use in ways that contribute to long-term sustainability.

(c) Planning is efficiently integrated into the broader geographic, legal, and social landscape within which national forests and grasslands exist. Other agencies, governments, corporations, and citizens manage land in and around the national forests and grasslands. Planning, therefore, is outward looking with the goal of understanding the broader landscape in which the national forests and grasslands lie.

(1) Planning fosters coordination among all affected federal agencies.

(2) Planning proceeds in close cooperation with state, tribal, and local governments.

(3) Planning recognizes the rights of American Indian tribes and Alaska Natives.

(4) Planning is interdisciplinary, providing analyses and options that are responsive to a broad range of ecological, social, and economic.

(5) Planning acknowledges the limits and variability of likely budgets.

(d) Planning meaningfully engages the American people in the stewardship of their national forests and grasslands. Just as the Forest Service can help the American people learn about the limits and capabilities of the national forests and grasslands, managers also should be guided by the knowledge and values of the American people.

(1) Planning encourages extensive collaborative citizen participation and builds upon the human resources in local communities and throughout the nation.

(2) Planning actively seeks and addresses key issues and promotes a shared vision of desired conditions.

(3) Planning and plans are understandable.

(4) Planning restores and maintains the trust of the American people in the management of the national forests and grasslands.

(e) Planning is an ongoing process, where decisions are adapted, as necessary, to address new issues, new information, and unforeseen events.

(1) Planning is innovative and practical.

(2) Planning is expeditious and efficient in achieving goals.

(f) Planning seeks to manage National Forest System resources in a combination that best serves the public interest without impairment of the productivity of the land consistent with the Multiple-Use Sustained-Yield Act of 1960.

The Framework for Planning

§ 219.3 Overview.

(a) The planning framework. Land and resource management planning is a flexible process for fitting solutions to the scope and scale of needed action. Planning, conducted according to the planning framework outlined in §§ 219.3 through 219.11, involves engaging the public (§§ 219.12 through 219.18) and applying the best available science (§§ 219.22 through 219.25) to contribute to sustainability (§§ 219.19 through 219.21) in the use and enjoyment of National Forest System lands.

(b) Levels of planning. Planning may be undertaken at the national, regional, national forest or grassland, and/or ranger district administrative levels depending on the scope and scale of issues.

(1) The Chief of the Forest Service is responsible for national planning. National planning includes the Forest Service national strategic plan required under the Government Performance and Results Act of 1993 (5 U.S.C. 306, 31 U.S.C. 1115-1119 and 9703-9704) that establishes national long-term goals, outcome measures, and strategies to be considered in managing the National Forest System and the Resources Planning Act Program (16 U.S.C. 1600).

(2) The Forest or Grassland Supervisor is the responsible official for a plan amendment or revision, except to the extent the Regional Forester or Chief decides to act as the responsible official.

(3) When appropriate, two or more Forest or Grassland Supervisors, one or more Regional Foresters, or the Chief of the Forest Service may undertake planning which may amend or revise one or more plans.

(4) The Chief of the Forest Service, Regional Foresters, National Forest and Grassland Supervisors, or District Rangers may authorize and implement site-specific actions.

(c) An interdisciplinary, collaborative approach to planning. An interdisciplinary, collaborative approach to planning may be achieved by engaging the skills and interests of appropriate combinations of Forest Service staff, consultants, contractors, other federal agencies, states, American Indian tribes, Alaska Natives, or local government personnel, or other interested or affected people consistent with applicable laws.

(d) Key elements. The planning cycle begins with the identification and consideration of issues and concludes with the monitoring and evaluation of results. Based upon the scope and scale of issues, planning includes one or more of the following key elements:

(1) Identification and consideration of issues (§ 219.4);

(2) Information development and interpretation (§ 219.5);

(3) Proposed actions (§ 219.6);

(4) Plan decisions (§ 219.7);

(5) Amendment (§ 219.8);

(6) Revision (§ 219.9);

(7) Site-specific decisions (§ 219.10); and

(8) Monitoring and evaluation for adaptive management (§ 219.11).

§ 219.4 Identification and consideration of issues.

(a) Origination of issues. Issues may originate from a variety of sources including, but are not limited to: Inventories, assessments, analyses, monitoring and evaluation of projects; discussions among people and proposals by organizations or governments interested in or affected by National Forest System management; Presidential, Departmental, and Forest Service conservation leadership initiatives; cooperatively developed landscape goals (§ 219.12(b)); evaluation of sustainability (§ 219.9(b)(4)); enactment of new laws; policies such as the Forest Service national strategic plan; and applications for authorization for occupancy and use of National Forest System lands.

(b) Consideration of issues. The responsible official has the discretion to determine, at any time, whether and to what extent an issue is appropriate for consideration.

(1) In making this determination, the responsible official should consider:

(i) The scope, complexity, and geographic scale of potential actions that may address an issue;

(ii) Statutory requirements;

(iii) Organizational and community capabilities and available resources, including current and likely Forest Service budgets;

(iv) The scientific basis and merit of available data and analyses;

(v) The relationship of possible actions to the Forest Service national strategic plan, other existing plans, adopted conservation strategies, biological opinions, or other strategies applicable within all or a portion of the plan area; and

(vi) The opinions of interested or affected individuals, organizations, or other entities and the social and cultural values related to an issue.

(2) The responsible official should consider the extent to which addressing the issue relates to or provides:

(i) Opportunities to contribute to the achievement of cooperatively developed landscape goals;

(ii) Opportunities for the national forests and grasslands to contribute to the restoration or maintenance of ecological sustainability, including maintenance or restoration of watershed function, such as water flow regimes to benefit aquatic resources, groundwater recharge, municipal water supply, or other uses, and maintaining or restoring ecological conditions needed for ecosystem and species diversity;

(iii) Opportunities for the national forests or grasslands to contribute to social and economic sustainability;

(iv) Opportunities to recover threatened or endangered species and maintain or restore their habitat;

(v) The potential for negative environmental effects, including human health, economic and social effects, upon minority and low income communities;

(vi) Opportunities to maintain or restore ecological conditions that are similar to the biological and physical range of expected variability (§ 219.20(b)(1)); and

(vii) Opportunities to contribute to knowledge about and preservation of historic and cultural resources.

§ 219.5 Information development and interpretation.

If the responsible official determines an issue should receive consideration, the responsible official should review relevant information such as inventories, broad-scale assessments, local analyses, or monitoring results to determine if additional information is desirable and if it can be obtained at a reasonable cost and in a timely manner. The responsible official, at his or her discretion, may choose the methods and determine the scope of information development and interpretation for an issue under consideration. A broad-scale assessment or a local analysis may be developed or supplemented if appropriate to the scope and scale of an issue. Broad-scale assessments, local analyses, monitoring results, and other studies are not site-specific or plan decisions or proposals for agency action (§ 219.6(a)) subject to Forest Service NEPA procedures.

(a) Broad-scale assessments. Broad-scale assessments provide information regarding ecological, economic, or social issues that are broad in geographic scale, sometimes crossing Forest Service regional administrative boundaries. Ecological information and analyses that may be provided in an assessment are addressed in § 219.20(a). Social and economic information and analyses that may be provided in an assessment are addressed in § 219.21(a).

(1) Broad-scale assessment should provide the following as appropriate:

(i) Findings and conclusions that describe historic conditions, current status, and future trends of ecological, social, and/or economic conditions, their relationship to sustainability, and the principal factors contributing to those conditions and trends. The responsible official may use these findings and conclusions to identify other issues (§ 219.4), develop proposals for action (§ 219.6), or for other purposes.

(ii) Identification of needs for additional research to develop new information or address conflicting interpretations of existing information.

(2) Station Directors and Regional Foresters must have joint responsibility for Forest Service participation in broad-scale assessments. Each broad-scale assessment should be designed and conducted with the assistance of scientists, resource professionals, governmental entities, and other individuals and organizations knowledgeable of the assessment area.

(b) Local analyses. Local analyses provide ecological, social, or economic information as deemed appropriate by the responsible official. Local analyses may cover watersheds, ecological units, and social and economic units, and may tier to or provide information to update a broad-scale assessment. Local analyses should provide the following, as appropriate:

(1) Characterization of the area of analysis;

(2) Description of issues within the analysis area;

(3) Description of current conditions;

(4) Description of likely future conditions;

(5) Synthesis and interpretation of information; and

(6) Recommendations for proposals (§ 219.6(a)) or identification of other issues (§ 219.4).

§ 219.6 Proposed actions.

(a) Proposal. The responsible official may propose to amend or revise a plan, propose a site-specific action, or both.

(b) NEPA requirements. Unless otherwise provided by law, the responsible official must analyze the effects of the proposal and alternative(s) in conformance with Forest Service NEPA procedures. The responsible official may use issues identified and information reviewed pursuant to Secs. 219.4-219.5 for scoping required in Forest Service NEPA procedures.

§ 219.7 Plan decisions.

Plan decisions guide or limit uses of National Forest System resources and provide the basis for future agency action. Plan decisions link the requirements of laws, regulations, Executive Orders, policies, and the Forest Service national strategic plan to specific national forests and grasslands. While plan decisions generally do not commit resources to a site-specific action, plan decisions provide a framework for authorizing site-specific actions that may commit resources. In making decisions, the responsible official should seek to manage National Forest System resources in a combination that best serves the public interest without impairment of the productivity of the land consistent with the Multiple-Use Sustained-Yield Act of 1960. Plan decisions may apply to all or part of a plan area. Paragraphs (a) through (e) of this section describe the decisions in a plan.

(a) Desired resource conditions. These plan decisions define the resource conditions sought within all or portions of the plan area. Desired resource conditions may include, but are not limited to, the desired watershed and ecological conditions and aquatic and terrestrial habitat characteristics.

(b) Objectives. These plan decisions are concise statements describing measurable results intended to contribute to sustainability (§ 219.19), including a desired level of uses, values, products, and services, assuming current or likely budgets and considering other spending levels as appropriate. Objectives include an estimate of the time and resources needed for their completion.

(c) Standards. These plan decisions are the requirements and limitations for land uses and management actions necessary for the achievement of desired conditions and objectives and compliance with applicable laws, regulations, Executive Orders, and policies. Standards include, but are not limited to:

(1) Limitations on even-aged timber harvest methods;

(2) Maximum size openings from timber harvest;

(3) Methods for achieving aesthetic objectives by blending the boundaries of vegetation treatments; and

(4) Other requirements to achieve multiple-use of the national forests and grasslands.

(d) Designation of suitable land uses. These plan decisions identify lands within the National Forest System that are or are not suitable for specific uses (§ 219.26), including, but not limited to: the transportation system; livestock grazing; special designations as described in § 219.27; and lands where timber production is an objective (§ 219.28).

(e) Monitoring strategy. A monitoring strategy is required by each plan as described in § 219.11(a).

§ 219.8 Amendment.

(a) Amending plans. A plan amendment may add, modify, or rescind one or more of the decisions of a plan (§ 219.7). An amendment decision must be based on the identification and consideration of issues (§ 219.4), applicable information (§ 219.5), and an analysis of the effects of the proposed amendment (§ 219.6). In developing an amendment, the responsible official must provide opportunities for collaboration consistent with § 219.12 through § 219.18.

(b) Environmental review of a proposed plan amendment. For each proposal for a plan amendment, the responsible official must complete appropriate environmental analyses and public involvement in accordance with Forest Service NEPA procedures. A proposed amendment that may create a significant environmental effect and thus require preparation of an environmental impact statement is considered to be a significant change in the plan. If a proposal for amendment requires the preparation of an environmental impact statement, the responsible official must give public notice and an opportunity to comment on the draft environmental impact statement for at least 90 calendar days.

§ 219.9 Revision.

(a) Application of the revision process. Revision of a plan is required by 16 U.S.C. 1604(f)(5). The revision process is a review of the overall management of a unit of the National Forest System and an opportunity to consider the likely results if plan decisions were to remain in effect.

(b) Initiating revision. To begin the revision process, the responsible official must:

(1) Provide opportunities for collaboration consistent with § 219.12 through § 219.18;

(2) Summarize those issues the responsible official determines to be appropriate for consideration (§ 219.4), any relevant inventories, new data, findings and conclusions from appropriate broad-scale assessments and local analyses, monitoring and evaluation results, new or revised Forest Service policies, relevant portions of the Forest Service national strategic plan, and changes in circumstances affecting the entire or significant portions of the plan area;

(3) Develop the information and complete the analyses described in § 219.20(a) and § 219.21(a);

(4) Evaluate the effectiveness of the current plan in contributing to sustainability (Secs. 219.19-219.21) based on the information, analyses, and requirements described in § 219.20(a) and (b) and § 219.21(a) and (b), and provide for an independent scientific peer review (§ 219.22) of the evaluation;

(5) Identify new proposals for special areas, special designation, or for recommendation as wilderness (§ 219.27);

(6) Identify specific watersheds in need of protective or restoration measures;

(7) Identify lands classified as not suitable for timber production (§ 219.28);

(8) Identify and evaluate inventoried roadless areas and unroaded areas based on the information, analyses, and requirements in § 219.20(a) and § 219.21(a). During the plan revision process or at other times as deemed appropriate, the responsible official must determine which inventoried roadless areas and unroaded areas warrant additional protection and the level of protection to be afforded; and

(9) Develop an estimate of outcomes that would be anticipated, including uses, values, products, or services, for a 15-year period following initiation of the revision process, if the plan decisions in effect at the time the revision process began remain in effect.

(c) Public notice of revision process and review of information. After the responsible official has compiled the information required under paragraph (b) of this section, the responsible official must give public notice of the plan revision process and make the information compiled under paragraph (b) of this section available for public comment for at least 45 calendar days.

(d) Notice of Intent. Based upon the information compiled under paragraph (b) of this section and any comments received during the comment period required under paragraph (c) of this section, the responsible official must publish a Notice of Intent to prepare an environmental impact statement to add, modify, remove, or continue in effect the decisions embodied in a plan. The responsible official must give the public notice and an opportunity to comment on the draft environmental impact statement for at least 90 calendar days. Following public comment, the responsible official must oversee preparation of a final environmental impact statement in accordance with Forest Service NEPA procedures.

(e) Final decision on plan revision. The revision process is completed when the responsible official signs a record of decision for a plan revision.

§ 219.10 Site-specific decisions.

To the extent appropriate and practicable and subject to valid existing rights and appropriate statutes, the responsible official must provide opportunities for collaboration consistent with §§ 219.12 through 219.18, follow the planning framework described in §§ 219.4 through 219.6 and comply with § 219.11 to make site-specific decisions. All site-specific decisions, including authorized uses of land, must be consistent with the applicable plan. If a proposed site-specific decision is not consistent with the applicable plan, the responsible official may modify the proposed decision to make it consistent with the plan, reject the proposal; or amend the plan to authorize the action.

§ 219.11 Monitoring and evaluation for adaptive management.

(a) Plan monitoring strategy. Each plan must contain a practicable, effective, and efficient monitoring strategy to evaluate sustainability in the plan area (§§ 219.19 through 219.21). The strategy must require monitoring of appropriate plan decisions and characteristics of sustainability.

(1) Monitoring and evaluation of ecological sustainability. The plan monitoring strategy for the monitoring and evaluation of ecological sustainability must require monitoring of:

(i) Ecosystem diversity. Monitoring must be used to evaluate the status and trend of selected physical and biological characteristics of ecosystem diversity (§ 219.20(a)(1)). The plan monitoring strategy must document the reasons for selection of characteristics to be monitored, monitoring objectives, methodology, and designate critical values that will prompt reviews of plan decisions.

(ii) Species diversity. Monitoring must be used to evaluate focal species and species-at-risk as follows:

(A) The status and trends of ecological conditions known or suspected to support focal species and selected species-at-risk must be monitored. The plan monitoring strategy must document the reasons for the selection of species-at-risk for which ecological conditions are to be monitored, including the degree of risk to the species, the factors that put the species at risk, and the strength of association between ecological conditions and population dynamics.

(B) In addition to monitoring of ecological conditions, the plan monitoring strategy may require population monitoring for some focal species and some species-at-risk. This monitoring may be accomplished by a variety of methods including population occurrence and presence/absence data, sampling population characteristics, using population indices to track relative population trends, or inferring population status from ecological conditions.

(C) A decision by the responsible official to monitor populations and the responsible official's choice of methodologies for monitoring selected focal species and selected species-at-risk may be based upon factors that include, but are not limited to, the degree of risk to the species, the degree to which a species' life history characteristics lend themselves to monitoring, the reasons that a species is included in the list of focal species or species-at-risk, and the strength of association between ecological conditions and population dynamics. Monitoring of population trend is often appropriate in those cases where risk to species viability is high and population characteristics cannot be reliably inferred from ecological conditions. The reasons for selection of species, monitoring objectives, and methodologies must be documented as part of the plan monitoring strategy. Critical values that will prompt reviews of plan decisions must be designated in the monitoring strategy.

(iii) Monitoring effectiveness. As a part of the plan monitoring strategy, the responsible official must evaluate the effectiveness of selected characteristics of ecosystem diversity and species diversity in providing reliable information regarding ecological sustainability.

(2) Monitoring and evaluation of social and economic sustainability. The plan monitoring strategy for the monitoring and evaluation of social and economic sustainability should provide for periodic review of national, regional, and local supply and demand for products, services, and values. Special consideration should be given to those uses, values, products, and services that the National Forest System is uniquely poised to provide. Monitoring should improve the understanding of the National Forest System contributions to social and economic sustainability. The plan monitoring strategy must require the responsible official to evaluate the effectiveness of information and analyses described in § 219.21(a) in providing reliable information regarding social and economic sustainability.

(b) Monitoring of site-specific actions. The decision document authorizing a site-specific action should describe any required monitoring and evaluation for the site-specific action. The responsible official must determine that there is a reasonable expectation that anticipated funding is adequate to complete any required monitoring and evaluation prior to authorizing a site-specific action.

(c) Monitoring methods. Unless required by the monitoring strategy, monitoring methods may be changed to reflect new information without plan amendment or revision.

(d) Use of monitoring information. Where monitoring and evaluation is required by the plan monitoring strategy, the responsible official must ensure that monitoring information is used to determine one or more of the following:

(1) If site-specific actions are completed as specified in applicable decision documents;

(2) If the aggregated outcomes and effects of completed and ongoing actions are achieving or contributing to the desired conditions;

(3) If key assumptions identified for monitoring in plan decisions remain valid; and

(4) If plan or site-specific decisions need to be modified.

(e) Coordination of monitoring activities. To the extent practicable, monitoring and evaluation should be conducted jointly with other federal agencies, state, local, and tribal governments, scientific and academic communities, and others. In addition, the responsible official must provide appropriate opportunities for the public to be involved and utilize scientists as described in § 219.23.

(f) Annual monitoring and evaluation report. The responsible official must prepare a monitoring and evaluation report for the plan area within 6 months following the end of each fiscal year. The report must be maintained with the plan documents (§ 219.30(d)(5)), and include the following:

(1) A list or reference to monitoring required by the plan; and

(2) A summary of the results of monitoring and evaluation performed during the preceding fiscal year and appropriate results from previous years. The summary must include:

(i) A description of the progress toward achievement of desired conditions within the plan area; and

(ii) A description of the plan area's contribution to the achievement of applicable outcomes of the Forest Service national strategic plan.

Collaborative Planning for Sustainability

§ 219.12 Collaboration and cooperatively developed landscape goals.

(a) Collaboration. To promote sustainability, the responsible official must actively engage the American public, interested organizations, private landowners, state, local, and Tribal governments, federal agencies, and others in the stewardship of National Forest System lands. To engage people in the stewardship of National Forest System lands, the responsible official may assume many roles, such as leader, organizer, facilitator, or participant. The responsible official must provide early and frequent opportunities for people to participate openly and meaningfully in planning taking into account the diverse roles, jurisdictions, and responsibilities of interested and affected organizations, groups, and individuals. The responsible official has the discretion to determine how to provide these opportunities in the planning process.

(b) Cooperatively developed landscape goals. (1) The responsible official and other Forest Service employees involved in planning must invite and encourage others to engage in the collaborative development of landscape goals. Using information from broad-scale assessments or other available information, and subject to applicable laws, the responsible official may initiate or join ongoing collaborative efforts to develop or propose landscape goals for areas that include National Forest System lands.

(2) During collaborative efforts, responsible officials and other Forest Service employees, must communicate and foster understanding of the nation's declaration of environmental policy as set forth in section 101(b) of the National Environmental Policy Act, as amended (42 U.S.C. 4321-4347), which states that it is the continuing responsibility of the Federal Government to use all practicable means, consistent with other essential considerations of national policy, to improve and coordinate federal plans, functions, programs, and resources to the end that the Nation may—

(i) Fulfill the responsibilities of each generation as trustee of the environment for succeeding generations;

(ii) Assure for all Americans safe, healthful, productive, and esthetically and culturally pleasing surroundings;

(iii) Attain the widest range of beneficial uses of the environment without degradation, risk to health or safety, or other undesirable and unintended consequences;

(iv) Preserve important historic, cultural, and natural aspects of our national heritage, and maintain, wherever possible, an environment which supports diversity, and variety of individual choice;

(v) Achieve a balance between population and resource use which will permit high standards of living and a wide sharing of life's amenities; and

(vi) Enhance the quality of renewable resources and approach the maximum attainable recycling of depletable resources.

(3) Cooperatively developed landscape goals, whether the result of efforts initiated by the Forest Service or others, must be deemed an issue for the purposes under § 219.4.

§ 219.13 Coordination among Federal agencies.

The responsible official must provide early and frequent coordination with appropriate Federal agencies and may provide opportunities:

(a) For interested or affected Federal agencies to participate in the identification of issues and formulation of proposed actions;

(b) For the streamlined coordination of Federal agency policies, resource management plans, or programs; and

(c) The development, where appropriate and practicable, of joint resource management plans.

§ 219.14 Involvement of State and local governments.

The responsible official must provide early and frequent opportunities for State and local governments to:

(a) Participate in the planning process, including the identification of issues; and

(b) Contribute to the streamlined coordination of resource management plans or programs.

§ 219.15 Interaction with American Indian tribes and Alaska Natives.

(a) The Forest Service shares in the Federal Government's overall trust responsibility for federally recognized American Indian tribes and Alaska Natives.

(b) During planning, the responsible official must consider the government-to-government relationship between American Indian or Alaska Native tribal governments and the Federal Government.

(c) The responsible official must consult with and invite American Indian tribes and Alaska Natives to participate in the planning process to assist in:

(1) The early identification of treaty rights, treaty-protected resources, and American Indian tribe trust resources;

(2) The consideration of tribal data and resource knowledge provided by tribal representatives; and

(3) The consideration of tribal concerns and suggestions during decisionmaking.

§ 219.16 Relationships with interested individuals and organizations.

The responsible official must:

(a) Make planning information available to the extent allowed by law;

(b) Conduct planning processes that are fair, meaningful, and open to persons with diverse opinions;

(c) Provide early and frequent opportunities for participation in the identification of issues;

(d) Encourage interested individuals and organizations to work collaboratively with one another to improve understanding and develop cooperative landscape and other goals;

(e) Consult with individuals and organizations who can provide information about current and historic public uses within an assessment or plan area, about the location of unique and sensitive resources and values and cultural practices related to issues in the plan area; and

(f) Consult with scientific experts and other knowledgeable persons, as appropriate, during consideration of collaboratively developed landscape goals and other activities.

§ 219.17 Interaction with private landowners.

The responsible official must seek to collaborate with those who have control or authority over lands adjacent to or within the external boundaries of national forests or grasslands to identify:

(a) Local knowledge;

(b) Potential actions and partnership activities;

(c) Potential conditions and activities on the adjacent lands that may affect management of National Forest System lands, or vice versa; and

(d) Issues (§ 219.4).

§ 219.18 Role of advisory committees.

(a) Advisory committees. Advisory committees can provide an immediate, representative, and predictable structure within which public dialogue can occur and the Forest Service can develop relationships with diverse communities of interests. The responsible official may seek the assistance or advice from a committee, consistent with the requirements of the Federal Advisory Committee Act (5 U.S.C. app.) in determining whether there is a reasonable basis to propose an action to address an issue. Each Forest or Grassland Supervisor must have access to an advisory committee with knowledge of local conditions and issues, although an advisory committee is not required for each national forest or grassland. Responsible officials may request establishment of advisory committees and recommend members to the Secretary of Agriculture. Advisory committees used by other agencies may be utilized through proper agreements.

(b) Participation in other types of community-based groups. When appropriate, the responsible official should consider participating in community-based groups organized for a variety of public purposes, particularly those groups organized to develop landscape goals (§ 219.12(b)).

Ecological, Social, and Economic Sustainability

§ 219.19 Ecological, social, and economic sustainability.

Sustainability, composed of interdependent ecological, social, and economic elements, embodies the Multiple-Use Sustained-Yield Act of 1960 (16 U.S.C. 528 et seq.) without impairment to the productivity of the land and is the overall goal of management of the National Forest System. The first priority for stewardship of the national forests and grasslands is to maintain or restore ecological sustainability to provide a sustainable flow of uses, values, products, and services from these lands.

§ 219.20 Ecological sustainability.

To achieve ecological sustainability, the responsible official must ensure that plans provide for maintenance or restoration of ecosystems at appropriate spatial and temporal scales determined by the responsible official.

(a) Ecological information and analyses. Ecosystem diversity and species diversity are components of ecological sustainability. The planning process must include the development and analysis of information regarding these components at a variety of spatial and temporal scales. These scales include geographic areas such as bioregions and watersheds, scales of biological organization such as communities and species, and scales of time ranging from months to centuries. Information and analyses regarding the components of ecological sustainability may be identified, obtained, or developed through a variety of methods, including broad-scale assessments and local analyses (§ 219.5), and monitoring results (§ 219.11). For plan revisions, and to the extent the responsible official considers appropriate for plan amendments or site-specific decisions, the responsible official must develop or supplement the following information and analyses related to ecosystem and species diversity:

(1) Characteristics of ecosystem and species diversity. Characteristics of ecosystem and species diversity must be identified for assessing and monitoring ecological sustainability. In general, these identified characteristics should be consistent at various scales of analyses.

(i) Ecosystem diversity. Characteristics of ecosystem diversity include, but are not limited to:

(A) Major vegetation types. The composition, distribution, and abundance of the major vegetation types and successional stages of forest and grassland systems; the prevalence of invasive or noxious plant or animal species.

(B) Water resources. The diversity, abundance, and distribution of aquatic and riparian systems including streams, stream banks, coastal waters, estuaries, groundwater, lakes, wetlands, shorelines, riparian areas, and floodplains; stream channel morphology and condition, and flow regimes.

(C) Soil resources. Soil productivity; physical, chemical and biological properties; soil loss; and compaction.

(D) Air resources. Air quality, visibility, and other air resource values.

(E) Focal species. Focal species that provide insights to the larger ecological systems with which they are associated.

(ii) Species diversity. Characteristics of species diversity include, but are not limited to, the number, distribution, and geographic ranges of plant and animal species, including focal species and species-at-risk that serve as surrogate measures of species diversity. Species-at-risk and focal species must be identified for the plan area.

(2) Evaluation of ecological sustainability. Evaluations of ecological sustainability must be conducted at the scope and scale determined by the responsible official to be appropriate to the planning decision. These evaluations must describe the current status of ecosystem diversity and species diversity, risks to ecological sustainability, cumulative effects of human and natural disturbances, and the contribution of National Forest System lands to the ecological sustainability of all lands within the area of analysis.

(i) Evaluation of ecosystem diversity. Evaluations of ecosystem diversity must include, as appropriate, the following:

(A) Information about focal species that provide insights to the integrity of the larger ecological system to which they belong.

(B) A description of the biological and physical properties of the ecosystem using the characteristics identified in paragraph (a)(1)(i) of this section.

(C) A description of the principal ecological processes occurring at the spatial and temporal scales that influence the characteristic structure and composition of ecosystems in the assessment or analysis area. These descriptions must include the distribution, intensity, frequency, and magnitude of natural disturbance regimes of the current climatic period, and should include other ecological processes important to ecological sustainability, such as nutrient cycling, migration, dispersal, food web dynamics, water flows, and the identification of the risks to maintaining these processes. These descriptions may also include an evaluation of the feasibility of maintaining natural ecological processes as a tool to contribute to ecological sustainability.

(D) A description of the effects of human activities on ecosystem diversity. These descriptions must distinguish activities that had an integral role in the landscape's ecosystem diversity for a long period of time from activities that are of a type, size, or rate that were not typical of disturbances under which native plant and animal species and ecosystems developed.

(E) An estimation of the range of variability of the characteristics of ecosystem diversity, identified in paragraph (a)(l)(i) of this section, that would be expected under the natural disturbance regimes of the current climatic period. The current values of these characteristics should be compared to the expected range of variability to develop insights about the current status of ecosystem diversity.

(F) An evaluation of the effects of air quality on ecological systems including water.

(G) An estimation of current and foreseeable future Forest Service consumptive and non-consumptive water uses and the quantity and quality of water needed to support those uses and contribute to ecological sustainability.

(H) An identification of reference landscapes to provide for evaluation of the effects of actions.

(ii) Evaluations of species diversity. Evaluations of species diversity must include, as appropriate, assessments of the risks to species viability and the identification of ecological conditions needed to maintain species viability over time based on the following:

(A) The viability of each species listed under the Endangered Species Act as threatened, endangered, candidate, and proposed species must be assessed. Individual species assessments must be used for these species.

(B) For all other species, including other species-at-risk and those species for which there is little information, a variety of approaches may be used, including individual species assessments and assessments of focal species or other indicators used as surrogates in the evaluation of ecological conditions needed to maintain species viability.

(C) Except as provided in paragraph (a)(2)(ii)(A) of this section, for species groups that contain many species, assessments of functional, taxonomic, or habitat groups rather than individual species may be appropriate.

(D) In analyzing viability, the extent of information available about species, their habitats, the dynamic nature of ecosystems and the ecological conditions needed to support them must be identified. Species assessments may rely on general conservation principles and expert opinion. When detailed information on species habitat relationships, demographics, genetics, and risk factors is available, that information should be considered.

(b) Plan decisions. When making plan decisions that will affect ecological sustainability, the responsible official must use the information developed under paragraph (a) of this section. The following requirements must apply at the spatial and temporal scales that the responsible official determines to be appropriate to the plan decision:

(1) Ecosystem diversity. Plan decisions affecting ecosystem diversity must provide for maintenance or restoration of the characteristics of ecosystem composition and structure within the range of variability that would be expected to occur under natural disturbance regimes of the current climatic period in accordance with paragraphs (b)(1)(i) through (v) of this section.

(i) Except as provided in paragraph (b)(1)(iv) of this section, in situations where ecosystem composition and structure are currently within the expected range of variability, plan decisions must maintain the composition and structure within the range.

(ii) Except as provided in paragraph (b)(1)(v) of this section, where current ecosystem composition and structure are outside the expected range of variability, plan decisions must provide for measurable progress toward ecological conditions within the expected range of variability.

(iii) Where the range of variability cannot be practicably defined, plan decisions must provide for measurable progress toward maintaining or restoring ecosystem diversity. The responsible official must use independently peer-reviewed scientific methods other than the expected range of variability to maintain or restore ecosystem diversity. The scientific basis for such alternative methods must be documented in accordance with (§§ 219.22 through 219.25).

(iv) Where the responsible official determines that ecological conditions are within the expected range of variability and that maintaining ecosystem composition and structure within that range is ecologically, socially or economically unacceptable, plan decisions may provide for ecosystem composition and structure outside the expected range of variability. In such circumstances, the responsible official must use independently peer-reviewed scientific methods other than the expected range of variability to provide for the maintenance or restoration of ecosystem diversity. The scientific basis for such alternative methods must be documented in accordance with (§§ 219.22 through 219.25).

(v) Where the responsible official determines that ecological conditions are outside the expected range of variability and that it is not practicable to make measurable progress toward conditions within the expected range of variability, or that restoration would result in conditions that are ecologically, socially or economically unacceptable, plan decisions may provide for ecosystem composition and structure outside the expected range of variability. In such circumstances, the responsible official must use independently peer-reviewed scientific methods other than the expected range of variability to provide for the maintenance or restoration of ecosystem diversity. The scientific basis for such alternative methods must be documented (§§ 219.22 through 219.25).

(2) Species diversity. (i) Plan decisions affecting species diversity must provide for ecological conditions that the responsible official determines provide a high likelihood that those conditions are capable of supporting over time the viability of native and desired non-native species well distributed throughout their ranges within the plan area, except as provided in paragraphs (b)(2)(ii) through (iv) of this section. Methods described in paragraph (a)(2)(ii) of this section may be used to make the determinations of ecological conditions needed to maintain viability. A species is well distributed when individuals can interact with each other in the portion of the species range that occurs within the plan area. When a plan area occupies the entire range of a species, these decisions must provide for ecological conditions capable of supporting viability of the species and its component populations throughout that range. When a plan area encompasses one or more naturally disjunct and self-sustaining populations of a species, these decisions must provide ecological conditions capable of supporting over time viability of each population. When a plan area encompasses only a part of a population, these decisions must provide ecological conditions capable of supporting viability of that population well distributed throughout its range within the plan area.

(ii) When conditions outside the authority of the agency prevent the agency from providing ecological conditions that provide a high likelihood of supporting over time the viability of native and desired non-native species well distributed throughout their ranges within the plan area, plan decisions must provide for ecological conditions well distributed throughout the species range within the plan area to contribute to viability of that species.

(iii) Where species are inherently rare or not naturally well distributed in the plan area, plan decisions should not contribute to the extirpation of the species from the plan area and must provide for ecological conditions to maintain these species considering their natural distribution and abundance.

(iv) Where environmental conditions needed to support a species have been so degraded that it is technically infeasible to restore ecological conditions that would provide a high likelihood of supporting viability, plan decisions must provide for ecological conditions to contribute to supporting over time viability to the degree practicable.

(3) Federally listed threatened and endangered species. (i) Plan decisions must provide for implementing actions in conservation agreements with the U.S. Fish and Wildlife Service or the National Marine Fisheries Service that provide a basis for not needing to list a species. In some situations, conditions or events beyond the control or authority of the agency may limit the Forest Service's ability to prevent the need for federal listing. Plan decisions should reflect the unique opportunities that National Forest System lands provide to contribute to recovery of listed species.

(ii) Plan decisions involving species listed under the Endangered Species Act must include, at the scale determined by the responsible official to be appropriate to the plan decision, reasonable and prudent measures and associated terms and conditions contained in final biological opinions issued under 50 CFR part 402. The plan decision documents must provide a rationale for adoption or rejection of discretionary conservation recommendations contained in final biological opinions.

§ 219.21 Social and economic sustainability.

To contribute to economic and social sustainability, the responsible official involves interested and affected people in planning for National Forest System lands (§§ 219.12 through 219.18), provides for the development and consideration of relevant social and economic information and analyses, and a range of uses, values, products, and services.

(a) Social and economic information and analyses. To understand the contribution national forests and grasslands make to the economic and social sustainability of local communities, regions, and the nation, the planning process must include the analysis of economic and social information at variable scales, including national, regional, and local scales. Social analyses address human life-styles, cultures, attitudes, beliefs, values, demographics, and land-use patterns, and the capacity of human communities to adapt to changing conditions. Economic analyses address economic trends, the effect of national forest and grassland management on the well-being of communities and regions, and the net benefit of uses, values, products, or services provided by national forests and grasslands. Social and economic analyses should recognize that the uses, values, products, and services from national forests and grasslands change with time and the capacity of communities to accommodate shifts in land uses change. Social and economic analyses may rely on quantitative, qualitative, and participatory methods for gathering and analyzing data. Social and economic information may be developed and analyzed through broad-scale assessments and local analyses (§ 219.5), monitoring results (§ 219.11), or other means. For plan revisions, and to the extent the responsible official considers to be appropriate for plan amendments or site-specific decisions, the responsible official must develop or supplement the information and analyses related to the following:

(1) Describe and analyze, as appropriate, the following:

(i) Demographic trends; life-style preferences; public values; land-use patterns; related conservation and land use policies at the state and local level; cultural and American Indian tribe and Alaska Native land settlement patterns; social and cultural history; social and cultural opportunities provided by national forest system lands; the organization and leadership of local communities; community assistance needs; community health; and other appropriate social and cultural information;

(ii) Employment, income, and other economic trends; the range and estimated long-term value of market and non-market goods, uses, services, and amenities that can be provided by national forest system lands consistent with the requirements of ecological sustainability, the estimated cost of providing them, and the estimated effect of providing them on regional and community well-being, employment, and wages; and other appropriate economic information. Special attention should be paid to the uses, values, products, or services that the Forest Service is uniquely poised to provide;

(iii) Opportunities to provide social and economic benefits to communities through natural resource restoration strategies;

(iv) Other social or economic information, if appropriate, to address issues being considered by the responsible official (§ 219.4).

(2) Analyze community or region risk and vulnerability. Risk and vulnerability analyses assess the vulnerability of communities from changes in ecological systems as a result of natural succession or potential management actions. Risk may be considered for geographic, relevant occupational, or other related communities of interest. Resiliency and community capacity should be considered in a risk and vulnerability analysis. Risk and vulnerability analysis may also address potential consequences to communities and regions from land management changes in terms of capital availability, employment opportunities, wage levels, local tax bases, federal revenue sharing, the ability to support public infrastructure and social services, human health and safety, and other factors as necessary and appropriate.

(b) Plan decisions. When making plan decisions that will affect social or economic sustainability, the responsible official must use the information analyses developed in paragraph (a) of this section. Plan decisions contribute to social and economic sustainability by providing for a range of uses, values, products, and services, consistent with ecological sustainability.

The Contribution of Science

§ 219.22 The overall role of science in planning.

(a) The responsible official must ensure that the best available science is considered in planning. The responsible official, when appropriate, should acknowledge incomplete or unavailable information, scientific uncertainty, and the variability inherent in complex systems.

(b) When appropriate and practicable and consistent with applicable law, the responsible official should provide for independent, scientific peer reviews of the use of science in planning. Independent, scientific peer reviews are conducted using generally accepted scientific practices that do not allow individuals to participate in the peer reviews of documents they authored or co-authored.

§ 219.23 The role of science in assessments, analyses, and monitoring.

(a) Broad-scale assessments. If the Forest Service is leading a broad-scale assessment, the assessment must be led by a Chief Scientist selected by the Deputy Chief of Research and Development. When appropriate and practicable, a responsible official may provide for independent, scientific peer review of the findings and conclusions originating from a broad-scale assessment. Independent, scientific peer review may be provided by scientists from the Forest Service, other federal, state, or tribal agencies, or other institutions.

(b) Local analyses. Though not required, a responsible official may include scientists in the development or technical reviews of local analyses and field reviews of the design and selection of subsequent site-specific actions.

(c) Monitoring. (1) The responsible official must include scientists in the design and evaluation of monitoring strategies. Additionally, the responsible official must provide for an independent, scientific peer review of plan monitoring on at least a biennial basis to validate adherence to appropriate protocols and methods in collecting and processing of monitoring samples and to validate that data are summarized and interpreted properly.

(2) When appropriate and practicable, the responsible official should include scientists in the review of monitoring data and analytical results to determine trends relative to ecological, economic, or social sustainability.

§ 219.24 Science consistency evaluations.

(a) The responsible official must ensure that plan amendments and revisions are consistent with the best available science. The responsible official may use a science advisory board (§ 219.25) to assist in determining whether information gathered, evaluations conducted, or analyses and conclusions reached in the planning process are consistent with the best available science. If the responsible official decides to use a science advisory board, the board and the responsible official are to jointly establish criteria for the science advisory board and the responsible official to use in reviewing the consistency of proposed plan amendments and revisions with the best available science.

(b) The science advisory board is responsible for organizing and conducting a scientific consistency evaluation to determine the following:

(1) If relevant scientific (ecological, social, or economic) information has been considered by the responsible official in a manner consistent with current scientific understanding at the appropriate scales;

(2) If uncertainty of knowledge has been recognized, acknowledged, and adequately documented; and

(3) If the level of risk in achievement of sustainability is acknowledged and adequately documented by the responsible official.

(c) If substantial disagreement among members of the science advisory board or between the science advisory board and the responsible official is identified during a science consistency evaluation, a summary of such disagreement should be noted in the appropriate environmental documentation within Forest Service NEPA procedures.

§ 219.25 Science advisory boards.

(a) National science advisory board. The Forest Service Deputy Chief for Research and Development must establish, convene, and chair a science advisory board to provide scientific advice on issues identified by the Chief of the Forest Service. Board membership must represent a broad range of scientific disciplines including, but not limited to, the physical, biological, economic, and social sciences.

(b) Regional science advisory boards. Based upon needs identified by Regional Forester(s) or Research Station Director(s), the Forest Service Research Station Director(s), should establish and convene science advisory boards consistent with the Federal Advisory Committee Act (5 U.S.C. app.) to provide advice to one or more Regional Foresters regarding the application of science in planning and decisionmaking for National Forest System lands. At least one regional science advisory board must be available for each national forest and grassland. The Station Director(s) must chair the board or appoint a chair of such boards. The geographical boundaries of the boards need not align with National Forest System Regional boundaries. Board membership must represent a broad range of science disciplines including, but not limited to, the physical, biological, economic, and social sciences. Regional science advisory board tasks may include, but are not limited, to:

(1) Evaluating significance and relevance of new information related to current plan decisions, including the results of monitoring and evaluation; and

(2) Evaluating science consistency as described in § 219.24.

(c) Work groups. With the concurrence of the appropriate chair and subject to available funding, the national or regional science advisory boards may convene work groups to study issues and provide recommendations.

Special Considerations

§ 219.26 Identifying and designating suitable uses.

National forests and grasslands are suitable for a wide variety of public uses, such as outdoor recreation, livestock grazing, timber harvest, off-road vehicle travel, or other uses except where lands are determined to be unsuited for a particular use. Lands are not suited for a particular use if that use: is prohibited by law, regulation, or Executive Order; is incompatible with the mission or policies of the National Forest System; or would result in substantial and permanent impairment of the productivity of the land. Through a plan amendment or revision, the responsible official may determine whether specific uses may begin, continue, or terminate within the plan area. Planning documents should describe or display lands suitable for various uses in areas large enough to provide sufficient latitude for periodic adjustments in use to conform to changing needs and conditions.

§ 219.27 Special designations.

The Forest Service may recommend special designations to higher authorities or, to the extent permitted by law, adopt special designations through plan amendment or revision. Special designations are areas within the National Forest System that are identified for their unique or special characteristics and include the following:

(a) Congressionally designated areas. Congressionally designated areas may include, but are not limited to, wilderness, wild and scenic rivers, national trails, scenic areas, recreation areas, and monuments. These nationally significant areas must be managed as required by Congress and may have specific requirements for their management.

(b) Wilderness area reviews. Unless federal statute directs otherwise, all undeveloped areas that are of sufficient size as to make practicable their preservation and use in an unimpaired condition must be evaluated for recommended wilderness designation during the plan revision process. These areas may be evaluated at other times as determined by the responsible official.

(c) Administratively designated areas. Administratively designated areas may include, but are not limited to, critical watersheds, research natural areas, national monuments, geological areas, inventoried roadless areas, unroaded areas, motorized and non-motorized recreation areas, botanical areas, and scenic byways.

§ 219.28 Determination of land suitable for timber harvest.

(a) Lands where timber may not be harvested. The plan must identify lands within the plan area where timber may not be harvested. These lands include:

(1) Lands where timber harvest would violate statute, Executive Order, or regulation and those lands that have been withdrawn from timber harvest by the Secretary of Agriculture or the Chief of the Forest Service;

(2) Lands where technology is not available for conducting timber harvesting without causing irreversible damage to soil, slope, or other watershed conditions or produce substantial and permanent impairment of the productivity of the land; and

(3) Lands where there are no assurances that such lands can be adequately restocked within 5 years after harvest;

(b) Lands where timber may be harvested for timber production. The responsible official may establish timber production as a multiple-use plan objective for lands not identified in paragraph (a) of this section if the costs of timber production are justified by the ecological, social, or economic benefits considering physical, economic, and other pertinent factors to the extent feasible. Lands where timber production is not established as a plan objective are deemed not suited for timber production. These lands must be reviewed by the responsible official at least once every 10 years, or as prescribed by law, to determine their suitability for timber production considering physical, economic, and other pertinent factors to the extent feasible. Based on this review, timber production may be established as a plan objective for these lands through amendment or revision of the plan.

(c) Lands where timber may be harvested for other multiple-use values. Except for lands identified in paragraph (a) of this section, timber may be harvested from land where timber production is not established as a plan objective if, based on a site-specific analysis, the responsible official determines and documents that such timber harvest would contribute to achievement of desired conditions and ecological sustainability, and is necessary to protect multiple-use values other than timber production.

§ 219.29 Limitation on timber harvest.

(a) Estimate of the limitation of timber harvest. The responsible official must estimate the amount of timber that can be sold annually in perpetuity on a sustained-yield basis from National Forest System lands other than those identified in § 219.28(a). This estimate must be based on the yield of timber that can be removed consistent with achievement of objectives or desired conditions in the applicable plan. In those cases where a national forest has less than 200,000 acres of forested land identified in lands other than those in § 219.28(a), two or more national forests may be combined for the purpose of estimating amount of timber that can be sold annually on a sustained-yield basis. Estimations for lands where timber production is established as a plan objective § 219.28(b) and estimations for lands identified in § 219.28(c) cannot be combined.

(b) Limitation of timber harvest. The responsible official must limit the sale of timber from the lands where timber production is an objective and from other lands to a quantity equal to or less than that estimated in paragraph (a) of this section.

(c) Exceptions to limitations of timber harvest. For purposes of limiting the sale of timber, the responsible official may sell timber from areas that are substantially affected by fire, wind, or other events, or for which there is an imminent threat from insects or disease, and may either substitute such timber for timber that would otherwise be sold or, if not feasible, sell such timber over and above the plan limit established in paragraph (b) of this section. If departure from the quantity of timber removal established in paragraph (b) of this section is necessary to meet overall multiple-use objectives, the requirements in 16 U.S.C. 1611 must be followed.

Planning Documentation

§ 219.30 Plan documentation.

A plan is a repository of documents that integrates and displays the desired conditions, objectives, standards, and other plan decisions that apply to a unit of the National Forest System. The plan also contains maps, monitoring and evaluation results, the annual monitoring and evaluation report, and other information relevant to how the plan area is to be managed. Planning documents should be clear, understandable, and readily available for public review. Plan documents should be updated through amendments, revision, and routine maintenance (§ 219.31). Plan documents include, at a minimum, the following:

(a) A summary of the plan. The summary is a concise description of the plan that includes a summary of the plan decisions and a description of the plan area and appropriate planning units. The summary should include a brief description of the ecological, social, and economic environments within the plan area and the overall strategy for maintenance or restoration of sustainability, including desired conditions and objectives for their achievement. The summary also includes appropriate maps, a description of the transportation system, utility corridors, land ownership patterns and proposed land ownership adjustments, charts, figures, photographs, and other information to enhance understanding.

(b) Display of public uses. The plan documents must identify the suitability of the plan area for various uses (§ 219.26) such as recreation uses, livestock grazing, timber harvest, and mineral developments. The plan documents must identify land where timber may not be harvested and where timber production is an objective (§ 219.28). The plan documents also must describe the limitations on the removal of timber (§ 219.29) and the standards for timber harvest and regeneration methods (§ 219.7(c)).

(c) Plan decisions. The plan documents must display or describe the plan decisions (§ 219.7).

(d) Display of actions and outcomes. The plan documents must also contain:

(1) An annually updated list or other display of proposed, authorized, and completed actions to achieve desired conditions and objectives within the plan area;

(2) A 2-year schedule, updated annually, of anticipated outcomes which may include anticipated uses, values, products, or services based on an estimate of Forest Service budget and capacity to perform the identified program of work. The estimate of Forest Service budget and capacity should be based on recent funding levels;

(3) A 2-year summary, updated annually, of the actual outcomes which may include specific uses, values, products, or services provided as a result of completed site-specific actions;

(4) A projected range of outcomes which may include anticipated uses, values, products, and services for the next 15 years, assuming current or likely budgets while considering other spending levels as appropriate. These projections are estimates and as such often contain a high degree of uncertainty; they are intended to describe expected progress in achieving desired conditions and objectives within the plan area. The projections are to be updated during revision of each plan;

(5) A description of the monitoring strategy to occur in the plan area and the annual monitoring and evaluation report; and

(6) A summary of the projected program of work, updated annually, including costs for inventories, assessments, proposed and authorized actions, and monitoring. The projected program of work must be based on reasonably anticipated funding levels. Reasonably anticipated funding levels should be based on recent funding levels. The plan documents must also include a description of the total current-year budget, funded actions, projections for future budgets over the next 2 years; and a display of the budget trends over at least the past 5 years.

(e) Other components. A plan must contain or reference a list of materials, Forest Service policies, and decisions used in forming plan decisions. The information should include, but is not limited to, lists of previous decision and environmental documents, assessments, conservation agreements and strategies, biological opinions, inventories, administrative studies, monitoring results, and research relevant to adoption of plan decisions.

§ 219.31 Maintenance of the plan and planning records.

(a) Each National Forest or Grassland Supervisor must maintain a complete set of the planning documents required under § 219.30 that constitute the plan for the unit. The set of documents must be readily available to the public using appropriate and relevant technology.

(b) The following administrative corrections and additions may be made at any time, are not plan amendments or revisions, and do not require public notice or the preparation of an environmental document under Forest Service NEPA procedures:

(1) Corrections and updates of data and maps;

(2) Updates to activity lists and schedules as required by § 219.30(d)(1) through (6);

(3) Corrections of typographical errors or other non-substantive changes; and

(4) Changes in monitoring methods other than those required in a monitoring strategy (§ 219.11(c)).

Objections and Appeals

§ 219.32 Objections to plan amendments or plan revisions.

(a) Any person may object to a proposed amendment or revision prepared under the provisions of this subpart, except for an amendment or revision proposed by the Chief. The objection must be filed within 30 calendar days from the date that the Environmental Protection Agency publishes the notice of availability of a final environmental impact statement regarding a proposed amendment or revision in the Federal Register, or within 30 calendar days of the publication of a public notice of a proposed amendment not requiring preparation of an environmental impact statement. Within 10 days after the close of the objection period, the Responsible Official shall publish notice of all objections in the local newspaper of record. An objection must be filed with the reviewing officer identified in the notice and contain:

(1) The name, mailing address, and telephone number of the person filing the objection;

(2) A specific statement of the basis for each objection; and

(3) A description of the objector's participation in the planning process for the proposed amendment or revision, including a copy of any relevant documents submitted during the planning process.

(b) Objectors may request meetings with the reviewing officer and the responsible official to discuss the objection, to narrow the issues, agree on facts, and explore opportunities for resolution. The reviewing officer must allow other interested persons to participate in such meetings. An interested person must file a request to participate in an objection within ten days after publication of the notice of objection as described in paragraph (a) of this section.

(c) The reviewing officer must respond, in writing, to an objection within a reasonable period of time and may respond to all objections in one response. The reviewing officer's response regarding an objection is the final decision of the Department of Agriculture.

(d) The responsible official may not approve a proposed amendment or revision until the reviewing officer has responded to all objections. A decision by the responsible official approving an amendment or revision must be consistent with the reviewing officer's response to objections to the proposed amendment or revision.

(e) Where the Forest Service is a participant in a multi-agency decision subject to objection under this subpart, the responsible official and reviewing officer may waive the objection procedures of this subpart to adopt the administrative review procedure of another participating federal agency, if the responsible official and the responsible official of the other agencies agree to provide a joint response to those who have filed for administrative review of the multi-agency decision.

(f) The information collection requirements of this section have been approved by the Office of Management and Budget and assigned control number 0596-0158.

§ 219.33 Appeals of site-specific decisions.

If a site-specific decision is proposed in conjunction with a plan amendment or revision, a person may object to the proposed plan amendment or revision as described in (§ 219.32). If a decision is made to authorize a site-specific action, a person may request administrative review of that decision as described in 36 CFR part 215.

Applicability and Transition

§ 219.34 Applicability.

The provisions of this subpart are applicable to all units of the National Forest System as defined by 16 U.S.C. 1609.

§ 219.35 Transition.

(a) The transition period begins on November 9, 2000, and ends upon the completion of the revision process (§ 219.9) for each unit of the National Forest System. During the transition period, the responsible official must consider the best available science in implementing and, if appropriate, amending the plan.

(b) Until the Department promulgates superseding planning regulations pursuant to the National Forest Management Act, a responsible official may elect to continue or to initiate new plan amendments or revisions under the 1982 planning regulations in effect prior to November 9, 2000 (See 36 CFR parts 200 to 299, Revised as of July 1, 2000), or the responsible official may conduct the amendment or revision process in conformance with the provisions of this subpart.

(c) If a review of lands not suited for timber production is required before the completion of the revision process, the review must take place as described by the provisions of § 219.28, except as provided in paragraph (b) of this section.

(d) The date by which site-specific decisions made by the responsible official must be in conformance with the provisions of this subpart is extended from November 9, 2003, until the Department promulgates superseding planning regulations pursuant to the National Forest Management Act.

(e) Within 1 year of November 9, 2000, the Regional Forester must withdraw the regional guide. When a regional guide is withdrawn, the Regional Forester must identify the decisions in the regional guide that are to be transferred to a regional supplement of the Forest Service directive system (36 CFR 200.4) or to one or more plans and give notice in the Federal Register of these actions. The transfer of direction from a regional guide to a regional supplement of the Forest Service directive system or to one or more plans does not constitute an amendment, revision, or site-specific action subject to Forest Service NEPA procedures.

(f) Within 3 years after completion of the revision process for a unit, the responsible official must complete the first monitoring and evaluation report as required in § 219.11(f).

(g) Within 1 year of November 9, 2000, the Chief of the Forest Service must establish a schedule for completion of the revision process for each unit of the National Forest System.

Appendix A to § 219.35

Interpretive Rule Related to § 219.35(b)

The Department is making explicit its preexisting understanding of § 219.35(b) with regard to the appeal or objection procedures that may be applied to amendments or revisions of land and resource management plans during the transition from the appeal procedures in effect prior to November 9, 2000, to the objection procedures of § 219.32 as follows:

1. During the transition period, the option to proceed under the 1982 regulations or under the provisions of this subpart specifically includes the option to select either the objection procedures of this subpart or the optional appeal procedures published at 54 FR 3357 (January 23, 1989), as amended at 54 FR 13807 (April 5, 1989); 54 FR 34509 (August 21, 1989); 55 FR 7895 (March 6, 1990); 56 FR 4918 (February 6, 1991); 56 FR 46550 (September 13, 1991); and 58 FR 58915 (November 4, 1993).

Appendix B to § 219.35

Interpretative Rule Related to § 219.35(a) and (b)

The Department is clarifying the intent of the transition provisions of paragraphs (a) and (b) of § 219.35 with regard to the consideration and use of the best available science to inform project decisionmaking that implements a land management plan as follows:

1. Under the transition provisions of paragraph (a), the responsible official must consider the best available science in implementing and, if appropriate, in amending existing plans. Paragraph (b) allows the responsible official to elect to prepare plan amendments and revisions using the provisions of the 1982 planning regulation until a new final planning rule is adopted.

2. Until a new final rule is promulgated, the transition provisions of § 219.35 remain in effect. The 1982 rule is not in effect. During the transition period, responsible officials may use the provisions of the 1982 rule to prepare plan amendments and revisions. Projects implementing land management plans must comply with the transition provisions of § 219.35, but not any other provisions of the 2000 planning rule. Projects implementing land management plans and plan amendments, as appropriate, must be developed considering the best available science in accordance with § 219.35(a). Projects implementing land management plans must be consistent with the provisions of the governing plan.

Definitions

§ 219.36 Definitions.

Definitions of the special terms used in this subpart are set out in alphabetical order in this section as follows:

Adaptive management: An approach to natural resource management wherein the effects of policies, plans, and actions are monitored for the purpose of learning and adjusting future management actions. Successive iteration of the adaptive process is essential in contributing to sustainability.

Assessment or analysis area: The geographic area included within the scope of a broad-scale assessment or local analysis.

Candidate species: Species identified by the United States Fish and Wildlife Service (USFWS) or the National Marine Fisheries Service (NMFS), which are considered to be candidates for listing under the Endangered Species Act as published in the Federal Register.

Conservation agreement: A formal agreement between the Forest Service and the USFWS and/or NMFS identifying management actions necessary to prevent the need to list species under the Endangered Species Act.

Current climatic period: The period of time since establishment of the modern major vegetation types, which typically encompass the late Holocene Epoch including the present, including likely climatic conditions within the planning period. The climatic period is typically centuries to millennia in length, a period of time that is long enough to encompass the variability that species and ecosystems have experienced.

Desired condition: A statement describing a common vision for a specific area of land or type of land within the plan area. Statements of desired conditions should include the estimated time required for their achievement.

Desired non-native species: Those species of plants or animals which are not indigenous to an area but valued for their contribution to species diversity or their high social, cultural or economic value.

Disturbance regime: Actions, functions, or events that influence or maintain the structure, composition, or function of terrestrial or aquatic ecosystems. Natural disturbances include, among others, drought, floods, wind, fires, insects, and pathogens. Human-caused disturbances include actions such as recreational use, livestock grazing, mining, road construction, timber harvest, and the introduction of exotic species.

Diversity of plant and animal communities: The distribution and relative abundance of plant and animal communities and their component species occurring within an area.

Ecological conditions: Components of the biological and physical environment that can affect the diversity of plant and animal communities, including species viability, and the productive capacity of ecological systems. These could include the abundance and distribution of aquatic and terrestrial habitats, roads and other structural developments, human uses, and invasive and exotic species.

Ecological sustainability: The maintenance or restoration of the composition, structure, and processes of ecosystems including the diversity of plant and animal communities and the productive capacity of ecological systems.

Ecosystem composition: The plant and animal species and communities in the plan area.

Ecosystem processes: Ecological functions such as photosynthesis, energy flow, nutrient cycling, water movement, disturbance, and succession.

Ecosystem structure: The biological and physical attributes that characterize ecological systems.

Focal species: Focal species are surrogate measures used in the evaluation of ecological sustainability, including species and ecosystem diversity. The key characteristic of a focal species is that its status and trend provide insights to the integrity of the larger ecological system to which it belongs. Individual species, or groups of species that use habitat in similar ways or which perform similar ecological functions, may be identified as focal species. Focal species serve an umbrella function in terms of encompassing habitats needed for many other species, play a key role in maintaining community structure or processes, are sensitive to the changes likely to occur in the area, or otherwise serve as an indicator of ecological sustainability. Certain focal species may be used as surrogates to represent ecological conditions that provide for viability of some other species, rather than directly representing the population dynamics of those other species.

Forest Service NEPA procedures: The Forest Service policy and procedures for implementing the National Environmental Policy Act (NEPA) and the Council on Environmental Quality regulations (40 CFR chapter V) as described in Chapter 1950 of the Forest Service Manual and Forest Service Handbook 1909.15, Environmental Policy and Procedures Handbook (See 36 CFR 200.4 for availability).

Inherently rare species: A species is inherently rare if it occurs in only a limited number of locations, has low population numbers, or has both limited occurrences and low population numbers, and those conditions are natural characteristics of the life history and ecology of the species and not primarily the result of human disturbance.

Inventoried roadless areas: Areas are identified in a set of inventoried roadless area maps, contained in Forest Service Roadless Area Conservation, Draft Environmental Impact Statement, Volume 2, dated May 2000, which are held at the National headquarters office of the Forest Service, or any subsequent update or revision of those maps.

Major vegetation types: Plant communities, which are typically named after dominant plant species that are characteristic of the macroclimate and geology of the region or sub-region.

Native species: Species of the plant and animal kingdom indigenous to the plan area or assessment area.

Plan area: The geographic area of National Forest System lands covered by an individual land and resource management plan. The area may include one or more administrative units.

Productive capacity of ecological systems: The ability of an ecosystem to maintain primary productivity including its ability to sustain desirable conditions such as clean water, fertile soil, riparian habitat, and the diversity of plant and animal species; to sustain desirable human uses; and to renew itself following disturbance.

Range of variability: The expected range of variation in ecosystem composition, and structure that would be expected under natural disturbance regimes in the current climatic period. These regimes include the type, frequency, severity, and magnitude of disturbance in the absence of fire suppression and extensive commodity extraction.

Reference landscapes: Places identified in the plan area where the conditions and trends of ecosystem composition, structure, and processes are deemed useful for setting objectives for desired conditions and for judging the effectiveness of plan decisions.

Responsible official: The officer with the authority and responsibility to oversee the planning process and make decisions on proposed actions.

Reviewing officer: The supervisor of the responsible official.

Social and economic sustainability: Meeting the economic, social, aesthetic, and cultural needs and desires of current generations without reducing the capacity of the environment to provide for the needs and desires of future generations, considering both local communities and the nation as a whole. It also involves the capacity of citizens to communicate effectively with each other and to make sound choices about their environment.

Species: Any member of the animal or plant kingdom that is described as a species in a peer-reviewed scientific publication and is identified as a species by the responsible official pursuant to a plan decision, and must include all species listed under the Endangered Species Act as threatened, endangered, candidate, or proposed for listing by the U.S. Fish and Wildlife Service or National Marine Fisheries Service.

Species-at-risk: Federally listed endangered, threatened, candidate, and proposed species and other species for which loss of viability, including reduction in distribution or abundance, is a concern within the plan area. Other species-at-risk may include sensitive species and state listed species. A species-at-risk also may be selected as a focal species.

Species viability: A species consisting of self-sustaining and interacting populations that are well distributed through the species' range. Self-sustaining populations are those that are sufficiently abundant and have sufficient diversity to display the array of life history strategies and forms to provide for their long-term persistence and adaptability over time.

Successional stages: The different structural and compositional phases of vegetation development of forests and grasslands that occur over time following disturbances that kill, remove, or reduce vegetation and include the major developmental or seral stages that occur within a particular environment.

Timber production: The sustained long-term and periodic harvest of wood fiber from National Forest System lands undertaken in support of social and economic objectives identified in one or more land and resource management plans. For purposes of this regulation, the term timber production includes fuel wood.

Undeveloped areas: Areas, including but not limited to inventoried roadless areas and unroaded areas, within national forests or grasslands that are of sufficient size and generally untrammeled by human activities such that they are appropriate for consideration for wilderness designation in the planning process.

Unroaded areas: Any area, without the presence of a classified road, of a size and configuration sufficient to protect the inherent characteristics associated with its roadless condition. Unroaded areas do not overlap with inventoried roadless areas.

Subpart B—[Reserved]

Dated: December 8, 2009.
Harris D. Sherman,
Under Secretary, NRE.

[FR Doc. E9-30171 Filed 12-17-09; 8:45 am]

BILLING CODE 3410-11-P